FEDERAL COMMUNICATIONS COMMISSION

47 CFR Parts 2, 80, and 90

[WT Docket No. 04-344; FCC 08-208]

Maritime Communications

AGENCY: Federal Communications Commission.

ACTION: Final rule.

SUMMARY: In this document, the Federal Communications Commission (Commission or FCC) adopts additional measures for domestic implementation of Automatic Identification Systems (AIS), an advanced marine vessel tracking and navigation technology that can significantly enhance our Nation's homeland security as well as maritime safety. Specifically, in the Second Report and Order in WT Docket No. 04-344, the Commission designates maritime VHF Channel 87B (161.975 MHz) for exclusive AIS use throughout the Nation, while providing a replacement channel for those geographic licensees that are currently authorized to use Channel 87B in an inland VHF Public Coast (VPC) service area (VPCSA); determines that only Federal Government (Federal) entities should have authority to operate AIS base stations, obviating any present need for the Commission to adopt licensing, operational, or equipment certification rules for such stations; and requires that Class B AIS shipborne devices—which have somewhat reduced functionality vis-à-vis the Class A devices that are carried by vessels required by law to carry AIS equipment, and are intended primarily for voluntary carriage by recreational and other non-compulsory vessels—comply with the international standard for such equipment, while also mandating additional safeguards to better ensure the accuracy of AIS data transmitted from Class B devices. These measures will facilitate the establishment of an efficient and effective domestic AIS network, and will optimize the navigational and homeland security benefits that AIS offers.

DATES: Effective March 2, 2009 except for § 80.231, which contains new information collection requirements, that have not been approved by OMB. The Federal Communications Commission will publish a document in the Federal Register announcing the effective date. The incorporation by reference listed in the rule is approved by the Director of the Federal Register as of March 2, 2009.

FOR FURTHER INFORMATION CONTACT: Jeffrey Tobias, Jeff.Tobias@FCC.gov, Mobility Division, Wireless Telecommunications Bureau, (202) 418-1617, or TTY (202) 418-7233.

SUPPLEMENTARY INFORMATION: This is a summary of the Federal Communications Commission's Second Report and Order in WT Docket No. 04-344, FCC 08-208, adopted on September 15, 2008, and released September 19, 2008. The full text of this document is available for inspection and copying during normal business hours in the FCC Reference Center, 445 12th Street, SW., Washington, DC 20554. The complete text may be purchased from the Commission's copy contractor, Best Copy and Printing, Inc., Portals II, 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. In this Second Report and Order, the Commission concludes that it would promote the primary objectives of this proceeding, and would serve the broader public interest, to designate Channel 87B for exclusive AIS use in the thirty-three inland VPCSAs, just as it previously designated Channel 87B for exclusive use in the nine maritime VPCSAs in the Report and Order at 71 FR 60067, October 12, 2006. Making Channel 87B, like Channel 88B, available only for AIS throughout the Nation will serve the public interest by expanding the effectiveness and reliability of AIS.

2. Many commenters argue that Channel 87B should be designated exclusively for AIS use in the inland VPCSAs for reasons independent of the need to accommodate satellite AIS. These commenters note that AIS offers great benefits as a tool to assist vessels in navigating safely on waterways within inland VPCSAs, just as it does with respect to vessels in coastal areas and on the high seas. These commenters echo RTCM's assertion, made earlier in this proceeding, that AIS can provide vessel operators with the ability to “see” around islands and bends in narrow, obstructed or winding waterways in a way that radar cannot. According to RTCM, the unique navigational benefits of AIS will be especially important for large passenger vessels, large barge tows and similar vessels that have limited maneuverability on these inland waterways.

3. Commenters assert that designation of a channel other than Channel 87B for inland AIS operations would result in many of the same problems that led the Commission to reject the use of a channel or channels other than Channel 87B for AIS in the maritime VPCSAs, i.e., it would prevent the establishment of a seamless global AIS network (and, in this case, even a seamless nationwide AIS network) and would require vessels transiting an AIS “fence” between maritime and inland VPCSAs to switch to a different AIS channel. These commenters believe, in sum, that a failure to designate Channel 87B for AIS use on inland waterways would prevent the United States from realizing the full navigational safety and homeland security benefits of AIS.

4. Most commenters also believe that non-AIS operations should be prohibited on Channel 87B in the inland VPCSAs in order to protect the integrity of AIS operations not only in the inland VPCSAs, but also in the maritime VPCSAs and even in international waters. NTIA contends that the threat of co-channel interference to AIS from non-AIS transmissions on Channel 87B in inland VPCSAs is such that the Commission's main objective in this proceeding—to ensure that AIS is deployed widely, quickly, reliably, and cost-effectively, and in a manner that will maximize its capabilities—“cannot be fully attained unless the Commission designates AIS Channel 87B on a nationwide basis.” Commenters note, in this regard, that, non-AIS transmissions on Channel 87B from transmitters located within inland VPCSAs would cause interference to AIS transmissions, even on the high seas, due to atmospheric “ducting,” which can cause VHF signals to be received several hundred miles away. Even relatively distant non-AIS transmissions on Channel 87B could therefore interfere with and degrade AIS operations, reducing the effectiveness of AIS for homeland security as well as navigational safety.

5. MariTEL disputes the other commenters' arguments that non-AIS operations on Channel 87B, even in inland VPCSAs, will cause interference to AIS operations. MariTEL contends that the Commission previously considered and rejected similar arguments in permitting the use of VPC spectrum for land mobile operations pursuant to waivers. In those waiver decisions, according to MariTEL, the Commission determined that the use of VPC channels for maritime communications would not be compromised if land mobile use of the channels occurred sufficiently distant from the coast and navigable waterways. This argument overlooks the fact that the referenced decisions by the Wireless Telecommunications Bureau's former Public Safety and Critical Infrastructure Division did not permit land mobile use of Channel 87B, and expressly conditioned the non-maritime use of the frequencies on there being no harmful interference to current or future marine communications, including but not limited to AIS. In addition, the waivers granted in those cases were of limited geographic scope. The Commission therefore is not persuaded that those waiver decisions contradict the consensus view of the commenters other than MariTEL that non-AIS operations in inland VPCSAs can cause harmful interference to co-channel AIS communications, or that these decisions otherwise undermine the rationale for a nationwide designation of Channel 87B for AIS. The Commission therefore concludes that the public interest in homeland security and maritime safety would best be served by prohibiting non-AIS operations on Channel 87B throughout the Nation in order to protect the integrity of terrestrial (i.e., non-satellite) AIS communications.

6. In addition, the Commission concludes that non-AIS operations on Channel 87B would likely cause interference to satellite AIS communications. NTIA says that “[p]reliminary reports demonstrate that, with specific configurations, it is possible for land-based stations reliably to receive AIS signals from approximately 350 nautical miles.” The Maritime Transportation and Security Act of 2002 (MTSA), however, requires the Coast Guard to develop long-range tracking capabilities, and the Coast Guard's goal in furtherance of that mandate is to extend AIS coverage to two thousand nautical miles from the United States shoreline. NTIA is therefore exploring the possibility of using a low earth orbit communications satellite system to receive, process and relay AIS data, and has contracted with ORBCOMM, a mobile satellite service licensee, to evaluate satellite detection of AIS signals. The consensus of the commenters is that satellite AIS, if it proves feasible, will offer significant advantages over terrestrial AIS by, for example, expanding vessel tracking capabilities to encompass areas of the high seas well beyond the reach of non-satellite AIS.

7. NTIA and other commenters argue that the Commission should bar non-AIS transmissions on Channel 87B, even in inland areas, in order to avoid disruptions to satellite reception of AIS signals, which could, as ORBCOMM notes, “hinder the U.S. Coast Guard in fulfilling its critical homeland security role.” NTIA asserts that a report by the Department of Defense Joint Spectrum Center (JSC) analyzing technical issues relating to satellite AIS demonstrates that non-AIS co-channel signals “cause[] degradation in AIS signal detection * * * that is both unpredictable and unmanageable,” and that this signal degradation “will significantly decrease the effectiveness of the AIS system” to the point of defeating the purpose of using satellite AIS to expand long-range vessel tracking capabilities. ORBCOMM concurs that there is no current means of controlling non-AIS co-channel interference to satellite AIS, explaining that it is developing protocols/algorithms that will allow it to address simultaneous AIS transmissions from different ships, but that these do not prevent interference to AIS communications from non-AIS sources.

8. MariTEL argues that the Commission should not designate Channel 87B for AIS in the inland VPCSAs as an accommodation to satellite AIS because “there is no evidence that space-based monitoring will provide the Coast Guard with any more information than it would otherwise receive from terrestrial monitoring,” and because, even if such space-based monitoring of AIS transmissions on Channel 87B is deemed beneficial, satellite AIS can co-exist with non-AIS operations on Channel 87B in inland VPCSAs. The Commission finds neither argument to be convincing. MariTEL does not dispute that satellite AIS can greatly enlarge the distance at which AIS transmissions can be received and relayed. In addition, MariTEL's argument that an AIS satellite should be able to distinguish land mobile radio transmissions on Channel 87B in inland VPCSAs from AIS transmissions on the channel elsewhere fails to effectively address the comments submitted by the entities responsible for implementing satellite AIS indicating that it is not currently possible to filter out the non-AIS transmissions, and that those non-AIS transmissions would likely degrade satellite AIS reception, even with respect to AIS transmissions from vessels far from shore. The Commission therefore concludes that non-AIS operations on Channel 87B would likely need to be terminated if satellite AIS proves feasible and is fully implemented.

9. In sum, the Commission agrees with commenters such as NTIA that “[t]here are compelling safety and national security reasons to designate Channel 87B for AIS on a nationwide basis.” Because the desirability of deploying AIS in coastal and international waters applies equally to inland rivers and lakes, the optimization of the domestic AIS network clearly requires the designation of Channels 87B and 88B for inland AIS, and permitting any non-AIS uses of Channel 87B anywhere in the Nation would compromise the integrity of the domestic, and by extension the global, AIS network. The Commission also finds that implementation of satellite AIS would serve the public interest, and that clearing Channel 87B of non-AIS operations would be necessary to maximize the effectiveness of satellite AIS operations

10. As a consequence of its designation of Channel 87B for AIS in the inland VPCSAs, the Commission must establish a framework for clearing the channel of non-AIS operations. In the Report and Order, the Commission held that site-based VPC and private land mobile radio (PLMR) licensees in the maritime VPCSAs could continue to operate on Channel 87B until the expiration of their current license terms, but authorizations to operate on Channel 87B would not be renewed. In the inland VPCSAs, in contrast, there are no site-based VPC licensees and only two site-based PLMR licensees, one of which is a public safety entity. In addition, there is less maritime activity in the inland VPCSAs, further reducing the short-term potential for Channel 87B licensees in those areas to cause interference to AIS operations. Moreover, the full-scale implementation of satellite AIS is a longer-term project than the implementation of ship-to-ship and ship-to-shore terrestrial AIS operations. Under these circumstances, the Commission concludes that it can afford an additional period of grandfathering protection to the site-based Channel 87B PLMR licensees in inland VPCSAs. Specifically, the Commission will permit them to remain authorized to operate on Channel 87B for fifteen years after the effective date of the rule amendments adopted herein. This will provide incumbent site-based licensees with an ample period of time to adjust to the redesignation of Channel 87B without any disruption to their present operations, while at the same time ensuring eventual clearance of all non-AIS operations from the channel.

11. With respect to geographic licensees in the inland VPCSAs, the Commission noted earlier in this proceeding that two duplex channel pairs in the VHF maritime band have been set aside in each inland VPCSA as public safety interoperability channels. Specifically, Channel 25 (157.250/161.850 MHz) is set aside in every inland VPCSA, and either Channel 84 (157.225/161.825 MHz) or Channel 85 (157.275/161.875 MHz) is also set aside in each inland VPCSA. The Commission's ULS database indicates that only four entities are currently licensed pursuant to the set-aside. The Commission noted earlier in this proceeding that it had designated significant additional spectrum for public safety interoperability, in the VHF band and elsewhere, in the years following the set-aside of these VPC channels for that purpose, and it requested comment as to whether, in the event it designated Channel 87B for exclusive AIS use nationwide, any of these set-aside channels should be redesignated for use by inland VPCSA licensees.

12. In light of its determination to redesignate Channel 87B for exclusive AIS use in those VPCSAs, the Commission finds that it is appropriate to redesignate one of the public safety set-aside channel pairs in each inland VPCSA for use by inland VPCSA licensees. The only commenters addressing this issue—MariTEL, PacifiCorp, and RTCM—all favor redesignation of the channels, at least in the absence of any showing that they are needed for public safety interoperability communications. MariTEL argues that “equity demands nothing less.” MariTEL also suggests that giving inland VPCSA licensees replacement spectrum would make them “whole” for the loss of Channel 87B.

13. The Commission therefore redesignates duplex Channels 84 and 85 for VPC communications in the inland VPCSAs. (The Commission decides to make Channels 84/85 available to inland VPCSA licensees, rather than Channel 25, for several reasons. All four of the public safety licensees are licensed on Channel 25, but not all four are licensed on the other channels. In addition, Channel 25 is more useful for public safety interoperability because it is set aside throughout the inland VPCSAs. Finally, PacifiCorp, the only commenter addressing this precise issue, favors the reallocation of Channels 84 and 85, explaining that the reallocation of those channels would be more beneficial than a reallocation of Channel 25 in providing additional flexibility to inland VPCSA licensees and lessees with respect to signal strength across the border of adjacent VPCSAs.) Like incumbent site-based PLMR licensees operating on Channel 87B, site-based incumbents currently authorized on Channels 84/85 will remain authorized to operate on those channels for a period of fifteen years following the effective date of these rule amendments. As noted above with respect to incumbents on Channel 87B, a grandfathering period of fifteen years should provide affected public safety licensees with ample time for transition without any disruption to their present operations. In addition, making these former public safety set-aside channels available to inland VPCSA licensees is equitable because it will restore the operating capacity of these licensees, who, unlike the maritime VPCSA licensees, were under no pre-existing obligation to make any of their licensed spectrum available for AIS. This action is also equitable in consideration of the fact that the nationwide AIS designation of Channel 87B is itself intended to promote public safety. The Commission finds that this action will not disserve public safety, especially in light of its determination to temporarily grandfather the existing public safety use of the channels.

14. In order to provide a transition period for inland VPCSA geographic licensees to switch from Channel 87B to Channels 84/85, the Commission will permit inland VPCSA geographic licensees to continue to operate on Channel 87B for up to two years after the effective date of these rules, while allowing them to modify their licenses to replace Channel 87B with Channel 84 or Channel 85, as appropriate, any time after the effective date. This transition period should be ample to avoid any disruption of existing operations by inland VPCSA licensees, and should not otherwise prove onerous to the licensees. At the same time, this limited relief for existing inland VPCSA licensees should not compromise efforts to implement AIS in the United States as quickly and broadly as possible. At the end of the two-year transition period, the Commission will modify any inland VPCSA licenses that were not previously modified to replace Channel 87B with Channel 84 or Channel 85, as appropriate.

15. In the FNPRM in this proceeding, the Commission, noting that the International Electro-technical Commission (IEC) was in the process of developing AIS base station equipment standards, asked interested parties to address standards and procedures for authorizing AIS base station equipment under part 80, and sought comment on whether it should adopt rules for the licensing and use of AIS base stations. After reviewing the record, the Commission concludes that AIS base stations should be operated only by Federal entities, and, as a consequence, that the Commission need not adopt any rules pertaining to AIS base station equipment certification, licensing, or operation.

16. Almost all of the commenters addressing this question believe that private sector entities should not be licensed to operate AIS base stations. NTIA states that control of AIS base stations is “an inherently federal government function.” According to NTIA, AIS base stations control all aspects of the AIS network, and can override certain shipborne AIS functions. It explains, “Base stations manage the AIS VHF Data Link by managing communications traffic on AIS through various means to provide for the safety of navigation, to obtain information necessary for VTS [Vessel Traffic Services] and national security purposes, to transmit safety related messages, and to serve as an aid to navigation.” RTCM adds, “This power of AIS Base Stations to affect the operating characteristics of AIS systems should only be available to federal agencies with responsibility for navigational safety and security.”

17. Alone among the commenters, MariTEL asserts that AIS base stations should also be permitted to conduct commercial operations. MariTEL also argues that a determination not to permit private sector entities to be licensed for AIS base stations means that Channel 87B will in fact have been reallocated for exclusive Federal use, not the shared Federal/non-Federal use to which the Commission said the channel was being reallocated in the Report and Order in this proceeding. The Commission disagrees because, in making this argument, MariTEL ignores the existence of ship-to-ship AIS communications, which do not directly involve AIS base stations, and are authorized under part 80 of the rules pursuant to Commission-issued ship station licenses.

18. The Commission agrees with NTIA and the other commenters who argue that the responsibilities of operating AIS base stations should be undertaken only by Federal entities. AIS base stations will query and send commands to vessels. They will have the capability of overriding certain shipborne AIS functions through remote control. They will serve as aids to navigation, in a fashion similar to lighthouses. They will be responsible for maritime traffic management. Given the critical role played by AIS base stations in the global AIS network, it would be inappropriate to permit private sector entities, or even state or local government entities, to operate such stations in the United States. Permitting non-Federal entities to control AIS base stations could potentially jeopardize maritime domain awareness and maritime safety by diffusing responsibility and accountability for AIS base station operations.

19. It follows from this determination—that only Federal entities should operate AIS base stations—that the Commission should not promulgate rules for the licensing and operation of AIS base stations. The Commission is statutorily prohibited from licensing Federal Government radio stations. There is likewise no reason for the Commission to adopt rules to govern the certification of AIS base station equipment, because the Commission plays no role in certifying equipment for Federal Government stations. Although most commenters favor the international standard, IEC 62320-1, as the basis for equipment certification rules for AIS base stations, the comments do not account for the fact that radiofrequency equipment used in Federal Government radio stations is subject to certification by NTIA, not the Commission. In any event, the Commission has no reason to expect that the Federal Government will employ AIS base station equipment that is not compatible with the international standards. The Commission therefore declines to adopt any rules pertaining to the licensing, operation, or certification of equipment for AIS base stations.

20. The final set of issues presented in the FNPRM in this proceeding involved standards for certifying Class B AIS shipborne equipment, and further measures the Commission might adopt to ensure the accuracy of data transmitted from such devices. As the Commission noted in the FNPRM, Class B AIS devices are generally intended for use by vessels that are not subject to a mandatory AIS carriage requirement, and provide a less expensive alternative to Class A devices to encourage voluntary AIS carriage. For reasons discussed below, the Commission concludes that it should base part 80 certification of Class B AIS devices on compliance with the pertinent international standard for such devices, IEC 62287-1, as proposed in the FNPRM. The Commission therefore adds a new § 80.231 and revises § 80.1101(c)(12) of the Commission's rules to incorporate IEC 62287-1 by reference as the Commission standard for certifying Class B AIS equipment. As suggested by some commenters, however, the Commission also adopts additional requirements as safeguards to better ensure that Class B AIS devices will transmit accurate static data, including the correct Maritime Mobile Service Identity (MMSI) number. (An MMSI number, also referred to simply as an MMSI, is a unique nine-digit number assigned to commercial and recreational vessels participating in the Global Maritime Distress and Safety System (GMDSS). The MMSI functions as a “phone number” for the vessel and must be programmed into the vessel's digital selective calling (DSC) radio. MMSIs are also used for AIS transponders.)

21. The commenters addressing this issue generally favor the Commission's proposal to incorporate by reference IEC 62287-1 as the standard for certifying Class B AIS equipment under part 80. As ACR Electronics explains, the incorporation by reference of IEC 62287-1 is the option most consistent with the paramount goals of this proceeding to facilitate speedy and widespread deployment of AIS equipment. Given that, as ACR Electronics also notes, there currently is no alternative basis for certifying Class B AIS equipment, rejection of IEC 62287-1 as the standard for certifying Class B AIS devices would necessitate the development of a different standard, which would result in a substantial and unacceptable additional delay before Commission certification of Class B AIS devices could begin. Further, reliance on the existing IEC standard will reduce the cost of Class B AIS devices, and thus promote voluntary AIS carriage. It will also moot any concerns regarding interoperability of Class B AIS devices both domestically and on a worldwide basis.

22. The Commission disagrees with MariTEL's contention that the Commission should delay certifying Class B AIS equipment until it determines whether IEC 62287-1 ensures that Class B AIS devices do not cause interference to VPC operations in adjacent spectrum. The Commission already has determined, after reviewing an extensive record that included separate technical studies submitted by MariTEL and NTIA, that “the interference impact of wideband simplex AIS on VPC operations can be effectively mitigated through commercially reasonable means,” and MariTEL has not adduced any evidence to suggest that Class B AIS devices would pose a greater interference threat to VPC operations than Class A AIS devices, or that adopting rules for the certification of Class B AIS devices otherwise requires revisiting that earlier determination. The Commission finds, in sum, that certification of Class B AIS equipment in accordance with the established international standard for such equipment would serve the public interest for the same reasons that underlie the Commission's earlier determination to certify Class A AIS equipment in accordance with the established Class A international standard. The Commission therefore amends our rules as proposed to incorporate by reference IEC 62287-1 as the standard for certifying Class B AIS equipment under Part 80.

23. The Commission also agrees in principle with those commenters who believe that the Commission should adopt additional measures, beyond reliance on IEC 62287-1, to ensure the accuracy of MMSIs and other static data programmed into Class B AIS devices. The Commission has reviewed the proposals to that end in the record, some of which are very detailed and extensive. As discussed below, the Commission adopts three measures to provide better assurance that Class B AIS devices will be programmed with the correct static data, and in particular the correct MMSI. None of these measures conflicts with IEC 62287-1, and none should be burdensome for either equipment manufacturers or end users. It is unnecessary, and might be counterproductive, to prescribe more complicated processes, as some comments contemplate.

24. First, as urged by NTIA, the Commission prohibits any person from knowingly entering an incorrect MMSI or other static data in a Class B AIS device. Although this is a very basic measure, it ensures and clarifies that the Commission may impose the full range of sanctions at its disposal for the willful or knowing entry of false data. The Commission says it would view any violations of this requirement as very serious, because the transmission of inaccurate static data could result in the misidentification of vessels, thus compromising the Coast Guard's ability to use AIS to full effect on behalf of its maritime domain awareness efforts. Second, the Commission requires that the static data, including MMSI, be entered by sellers and professional installers of Class B AIS devices, not the end users. As commenters note, IEC 62287-1 prohibits end users from altering MMSIs, once programmed in the unit, but does not prohibit end users from entering the numbers initially. Thus, this requirement would go further than IEC 62287-1 by requiring professional entry of the MMSI number at the point of sale or installation. NTIA proposes such a requirement, and it is consistent with the comments of ACR Electronics, RTCM and the Task Force asking the Commission to require persons that sell and install Class B AIS units to ensure that the appropriate static data is entered, or at least to encourage them to enter the data themselves. Third, and also as recommended by NTIA, as well as by RTCM, the Commission requires manufacturers to include a conspicuous label on Class B AIS devices explaining how to enter and confirm static data, and warning that inputting an MMSI that has not been properly assigned to the end user, or otherwise entering any improper or inaccurate static data, is prohibited. Manufacturers also will be required to include this information in the user's manual. As RTCM notes, IEC 62287-1 contains only minimal guidance on the contents of manuals and user instructions, so adoption of this requirement does not conflict with the standard. NTIA believes that these three measures together provide a significant safeguard to ensure that the static data transmitted from Class B AIS devices, particularly MMSIs, are accurate and reliable. The Commission therefore adopts these measures. The Commission also adopts its proposal, unopposed by any commenter, that applicants for Commission certification of a Class B AIS device first obtain Coast Guard certification of the device, consistent with the Commission's procedures for Class A AIS devices.

25. Finally, the Commission notes that, while the FNPRM was pending, equipment manufacturers requested waivers to permit the authorization and use of Class B AIS transponders. The Wireless Telecommunications Bureau's Mobility Division sought comment on the waiver requests, and the commenters support authorizing Class B AIS devices before the conclusion of this proceeding. They assert that allowing voluntary vessels to fit the lower-cost Class B AIS devices as soon as possible will improve maritime security and safety of navigation. The Commission agrees that it is in the public interest to allow the use of Class B devices prior to the effective date of the rules adopted herein. Therefore, the Commission grants the waiver requests to the extent that it will certify Class B equipment that meets the requirements adopted in this Second Report and Order prior to the effective date of the new rules.

I. Procedural Matters

A. Paperwork Reduction Act Analysis

26. This document contains new information collection requirements subject to the Paperwork Reduction Act of 1995 (PRA), Public Law 104-13. It will be submitted to the Office of Management and Budget (OMB) for review under Section 3507(d) of the PRA. OMB, the general public, and other Federal agencies are invited to comment on the new or modified information collection requirements contained in this proceeding. In addition, we note that pursuant to the Small Business Paperwork Relief Act of 2002, Public Law 107-198, see 44 U.S.C. 3506(c)(4), we previously sought specific comment on how the Commission might “further reduce the information collection burden for small business concerns with fewer than 25 employees.”

27. In this present document, we have assessed the effects of establishing labeling requirements for manufacturers of Class B AIS devices, and find that the labeling requirements adopted herein would not impose an undue burden or excessive cost on such manufacturers, including those that have fewer than 25 employees. We also find that the public interest in ensuring that Class B AIS devices transmit accurate static data, including the correct MMSI number, which is the underlying purpose of the labeling requirements, outweighs the incremental compliance cost on manufacturers, including those that have 25 or fewer employees.

B. Report to Congress

28. The Commission will send a copy of this Second Report and Order in a report to be sent to Congress and the General Accountability Office pursuant to the Congressional Review Act, see 5 U.S.C. 801(a)(1)(A).

C. Final Regulatory Flexibility Analysis

29. As required by the Regulatory Flexibility Act of 1980, as amended (RFA), an Initial Regulatory Flexibility Analysis (IRFA) was incorporated in the FNPRM in this proceeding. The Commission sought written public comment on the proposals in the FNPRM, including comment on the IRFA. This present Final Regulatory Flexibility Analysis (FRFA) conforms to the RFA.

Need for, and Objectives of, the Second Report and Order:

30. The rules adopted in the Second Report and Order are intended to facilitate the implementation of maritime Automatic Identification Systems (AIS) in the United States and its territorial waters. AIS is an important tool for enhancing maritime safety and homeland security. In the Second Report and Order, the Commission designates VHF maritime Channel 87B for exclusive AIS use in inland VHF Public Coast service areas (VPCSAs) because such designation will best ensure that the United States can maximize the maritime safety and homeland security benefits of AIS. The exclusive use of VHF maritime Channel 87B for AIS in inland waterways will, among other things, provide an important navigational tool to guide vessels traveling on inland rivers and lakes, avoid the problems that would inhere in requiring vessels to switch AIS channels when transiting an AIS “fence” between maritime VPCSAs and inland VPCSAs, facilitate speedy AIS deployment using existing technical standards and infrastructure, and prevent co-channel interference to AIS operations not only in inland waterways but also in coastal and international waters. The Second Report and Order also concludes that AIS base stations should be operated only by Federal entities, and, as a consequence, that the Commission need not adopt any rules pertaining to AIS base station equipment certification, licensing or operation. Finally, the Commission adopts rules for the certification of Class B AIS devices, incorporating by reference the applicable international standard as the basis for such certification, while also adopting additional measures to better ensure that Class B AIS devices transmit accurate static data.

Summary of Significant Issues Raised by Public Comments in Response to the IRFA:

31. No comments were submitted specifically in response to the IRFA. However, one of the commenters, MariTEL, Inc. (MariTEL), contends that the Commission should not designate Channel 87B for AIS in inland VPCSAs, should not adopt rules based on international standards for the certification of AIS base station equipment, and should not authorize Class B AIS devices pursuant to the international standards, because such measures would cause interference to VHF Public Coast (VPC) stations operating on adjacent channels. As discussed in detail in Section E of this FRFA, we have considered the potential economic impact on small entities of these rules, and we have considered alternatives that would reduce the potential economic impact on small entities of the rules enacted herein, regardless of whether the potential economic impact was discussed in any comments.

Description and Estimate of the Number of Small Entities to Which Rules Will Apply:

32. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

33. Small businesses in the aviation and marine radio services use a very high frequency (VHF) marine or aircraft radio and, as appropriate, an emergency position-indicating radio beacon (and/or radar) or an emergency locator transmitter. The Commission has not developed a small business size standard specifically applicable to these small businesses. For purposes of this analysis, the Commission uses the SBA small business size standard for the category “Cellular and Other Wireless Telecommunications,” which is 1,500 or fewer employees. Between December 3, 1998 and December 14, 1998, the Commission held an auction of 42 VHF Public Coast (VPC) licenses in the 157.1875-157.4500 MHz (ship transmit) and 161.775-162.0125 MHz (coast transmit) bands. For purposes of the auction, the Commission defined a “small” business as an entity that, together with controlling interests and affiliates, has average gross revenues for the preceding three years not to exceed fifteen million dollars. In addition, a “very small” business is one that, together with controlling interests and affiliates, has average gross revenues for the preceding three years not to exceed three million dollars. There are approximately 10,672 licensees in the Marine Coast Service, and the Commission estimates that almost all of them qualify as “small” businesses under the above special small business size standards.

Description of Projected Reporting, Recordkeeping, and Other Compliance Requirements for Small Entities:

34. The rule amendments adopted in the Second Report and Order impose new compliance burdens on manufacturers and vendors of Class B AIS devices by requiring that such devices comply with the international standard for Class B AIS equipment, IEC 62287-1, in order to be certified by the Commission for use in the United States, and by requiring that static data be entered into Class B AIS equipment only by the vendor or installer. The rule amendments adopted in the Second Report and Order also impose requirements for the professional installation and labeling of Class B AIS devices to better ensure the accuracy of the static data transmitted from such devices.

Steps Taken to Minimize the Significant Economic Impact on Small Entities, and Significant Alternatives Considered:

35. The RFA requires an agency to describe any significant alternatives that it has considered in developing its approach, which may include the following four alternatives (among others): “(1) The establishment of differing compliance or reporting requirements or timetables that take into account the resources available to small entities; (2) the clarification, consolidation, or simplification of compliance and reporting requirements under the rule for such small entities; (3) the use of performance rather than design standards; and (4) an exemption from coverage of the rule, or any part thereof, for such small entities.”

36. In the IRFA for the FNPRM, the Commission described, and sought comment on, possible alternatives to the rule amendments under consideration in the FNPRM that might minimize the economic impact on small entities. Specifically, the Commission asked interested parties, and in particular inland VPCSA licensees, to provide information on the potential impact on inland VPCSA licensees of designating Channel 87B for AIS use exclusively throughout the Nation. To the extent that commenters foresaw such an impact, they were invited to suggest alternatives that would minimize or eliminate any adverse effect on small entities. It was noted, for example, that commenters could suggest that inland VPCSA licensees be accorded treatment similar to that which was accorded to site-based incumbent licensees, permitting them to continue to operate on Channel 87B on a shared basis with AIS for the remainder of their current license terms, but with no opportunity for renewal of the licenses. Commenters were also invited to address the possibility of migrating such licensees to different channels if such were available.

37. In the FNPRM, comment was also invited on rules to govern AIS base stations, including certification standards for AIS base station equipment. In the absence of specific proposals, the Commission invited interested parties to consider generally whether any special measures should be adopted in the AIS base station rules to prevent a significant adverse impact on small entities. Parties providing such comments were asked to address the extent to which they believe small entities may seek to become AIS base station licensees.

38. Finally, the Commission requested comment in the FNPRM on the Commission's proposal to incorporate by reference IEC 62287-1 as the standard for certifying Class B AIS devices under Part 80 of the Commission's rules. The Commission stated that incorporating by reference the international standard for Class B AIS devices would reduce costs to manufacturers by eliminating the possible need to design devices to two potentially conflicting standards, and would reduce costs to users of the devices both from a pass-through of manufacturers' cost savings and by eliminating the possible need to fit their vessels with more than one Class B AIS device if they travel outside U.S. territorial waters, i.e., removing the need to carry one Class B AIS device to function within U.S. territorial waters, and another Class B AIS device to function in international waters or other nations' territorial waters. The Commission noted, in addition, that Class B AIS devices are intended generally for use on vessels that are not required by law to carry AIS devices. Since carriage of Class B AIS devices is voluntary, the establishment of standards for certifying such devices should not impose a new compliance burden on vessel operators. However, to the extent that any commenters believed that the establishment of equipment certification standards for Class B AIS devices might impose a significant new compliance burden on any small entities, the Commission invited those commenters to suggest alternative or complementary approaches that might reduce or eliminate that burden, including, but not limited to, the establishment of less rigorous standards, or the provision of exemptions or grandfathering protection for small entities.

39. Although the Commission received no comments specifically addressed to the IRFA for the FNPRM, it has considered all comments to the FNPRM addressing the impact of any proposed change on small entities and all suggestions for alternative measures that would have a less significant impact on small entities. For reasons discussed below, the Commission has concluded that the rule changes adopted in the Second Report and Order will not impose undue compliance burdens on small entities.

40. In order to avoid the disruption of VPC station operations in inland VPCSAs that might otherwise stem from the designation of Channel 87B for exclusive AIS use in the inland VPCSAs, the Commission has provided the licensees of those stations with both a significant transitional period to adjust to the loss of Channel 87B, as well as a replacement channel. Specifically, the Commission has provided that site-based licensees operating on Channel 87B in inland areas may continue to use that channel for fifteen years after the effective date of these rule changes, and that geographic licensees operating on Channel 87B in inland VPCSAs may continue to operate on the channel for a period of two years following the effective date of these rule amendments. In addition, in each inland VPCSA, the Commission is making a duplex channel pair, either Channel 84 or Channel 85, depending on the inland VPCSA, available for VPC use by the geographic licensee as a replacement for Channel 87B. Channel 84/85 will be made available immediately upon the effective date of these rule amendments; thus, licensees will be able to operate on either Channel 84/85 or Channel 87B for a significant period of time, allowing migration of existing users of Channel 87B to alternative spectrum without disruption of existing operations on Channel 87B. In addition, the only commenter opposing the designation of Channel 87B for AIS use in inland VPCSAs has indicated that the redesignation of Channel 84/85 for VPC use could suffice to compensate licensees for the loss of use of Channel 87B.

41. The Commission has determined not to adopt rules for the certification of AIS base station equipment, or for the licensing and operation of AIS base stations, because AIS base stations perform critical maritime safety and homeland security functions, and should therefore be controlled only by Federal entities. Accordingly, there is no present need to further consider how such rules might affect small entities.

42. In addition, the Commission continues to find, for the reasons stated in the IRFA accompanying the FNPRM, that adopting rules for the certification of Class B AIS devices based on the international standard, IEC 62287-1, will benefit the manufacturers of such devices, including small entities, because manufacturers would have to manufacture Class B AIS devices in accordance with that standard in any event to serve vessels traveling outside U.S. territorial waters. Adoption of a different standard incompatible with IEC 62287-1 would increase costs of manufacturing Class B AIS equipment by requiring that such equipment conform to both standards. Those costs would be passed on to consumers, and it is even possible that establishment of a U.S.-specific standard for Class B AIS devices would compel vessel owners and operators, including recreational boaters, to purchase and install two separate Class B AIS devices. Adoption of a different standard would also delay domestic deployment of Class B AIS equipment because no such accepted alternative standard currently exists. Finally, the Commission has noted that the manufacturers addressing this issue all support the incorporation by reference of IEC 62287-1.

43. Finally, the Commission has also determined in the Second Report and Order to impose additional requirements pertaining to the labeling, sale, installation and operation of Class B AIS equipment. Specifically, the Commission has adopted rules that: (a) Prohibit any person from entering an incorrect MMSI or other static data in a Class B AIS device; (b) require that sellers and professional installers of Class B AIS devices, not the end users, enter the static data; and (c) require affixation on a Class B AIS device of a conspicuous label explaining how to enter and confirm static data, and warning that it is a violation of the Commission's rules to input an MMSI that has not been properly assigned to the end user, or to otherwise enter any improper or inaccurate static data, and to provide this same information in the user's manual. These provisions do not impose a significant compliance burden on manufacturers, vendors or users of Class B AIS equipment. In any event, the Commission does not see any alternative that would permit differential application of these requirements on small entities without undermining the purpose of these requirements, to promote homeland security and maritime safety by ensuring that Class B AIS devices transmit accurate static data.

F. Report to Congress

44. The Commission will send a copy of this Second Report and Order in WT Docket No. 04-344, including the Final Regulatory Flexibility Analysis, in a report to be sent to Congress pursuant to the Congressional Review Act. In addition, the Commission will send a copy of the Second Report and Order, including the Final Regulatory Flexibility Analysis, to the Chief Counsel for Advocacy of the SBA. A copy of the Second Report and Order and the Final Regulatory Flexibility Analysis (or summaries thereof) will also be published in the Federal Register.

List of Subjects

47 CFR Part 2

Communications equipment.

47 CFR Part 80

Incorporation by reference, Communications equipment, Marine safety, Radio, Vessels.

47 CFR Part 90

Communications equipment, Radio.

Federal Communications Commission.
Marlene H. Dortch,
Secretary.

Rule Changes

For the reasons discussed in the preamble, the Federal Communications Commission amends 47 CFR parts 2, 80 and 90 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, footnote US399, is revised to read as follows:

§ 2.106 Table of Frequency Allocations.

UNITED STATES (US) NOTES

* * * * *

US399 The frequency bands 161.9625-161.9875 MHz (AIS 1 with its center frequency at 161.975 MHz) and 162.0125-162.0375 MHz (AIS 2 with its center frequency at 162.025 MHz) are allocated to the maritime mobile service on a primary basis for Federal Government and non-Federal Government use, and shall be used exclusively for Automatic Identification Systems (AIS). However, in VHF Public Coast Service Areas (VPCSAs) 1-9, site-based stations licensed prior to November 13, 2006, may continue to operate on a co-primary basis in the frequency band 161.9625-161.9875 MHz until expiration of the license term for licenses in active status as of November 13, 2006. Also, in VPCSAs 10-42, site-based stations licensed in the frequency band 161.9625-161.9875 MHz prior to March 2, 2009 may remain authorized to operate on a co-primary basis in that frequency band until March 4, 2024, and geographical stations licensed in the frequency band 161.9625-161.9875 MHz prior to March 2, 2009 may continue to operate on a co-primary basis in that frequency band until March 2, 2011. See 47 CFR 80.371(c)(1)(ii) for the definitions of VPCSAs, and geographic license.

* * * * *

PART 80—STATIONS IN THE MARITIME SERVICES

3. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. Amend part 80 by adding § 80.231 to read as follows:

§ 80.231 Technical Requirements for Class B Automatic Identification System (AIS) equipment.

(a) Class B Automatic Identification System (AIS) equipment must meet the technical requirements of the International Electro-technical Commission (IEC) 62287-1 International Standard, “Maritime navigation and radio communication equipment and systems—Class B shipborne equipment of the Automatic Identification System—Part 1: Carrier—sense time division multiple access (CSTDMA) techniques,” First Edition 2006-03. The Director of the Federal Register approves this incorporation by reference in accordance with 5 U.S.C. 552(a) and 1 CFR part 51. Copies of this standard can be inspected at the Federal Communications Commission, 445 12th Street, SW., Washington, DC (Reference Information Center), call 1-888-225-5322 or at the National Archives and Records Administration (NARA). For information on the availability of this material at NARA, call 202-741-6030, or go to: http://www.archives.gov/federal_register/code_of_federal_regulations/ibr_locations.html. IEC publications can be purchased from the International Electro-technical Commission, 3 Rue de Varembe, CH-1211 Geneva 20, Switzerland, or from the American National Standards Institute (ANSI), 25 West 43rd Street, New York, NY 10036, telephone (212) 642-4900, http://www.ansi.org.

(b) In addition to the labels or other identifying information required under §§ 2.925 and 2.926 of this chapter, each Class B AIS device shall include a conspicuous label that includes: Instructions on how to accurately enter into the device and confirm static data pertaining to the vessel in which the device is or will be installed; and the following statement: “WARNING: It is a violation of the rules of the Federal Communications Commission to input an MMSI that has not been properly assigned to the end user, or to otherwise input any inaccurate data in this device.” Instructions on how to accurately enter and confirm static data in the device shall also be included in the user's manual for the device. The entry of static data into a Class B AIS device shall be performed by the vendor of the device or by an appropriately qualified person in the business of installing marine communications equipment on board vessels. In no event shall the entry of static data into a Class B AIS device be performed by the user of the device or the licensee of a ship station using the device. Knowingly programming a Class B AIS device with inaccurate static data, or causing a Class B AIS device to be programmed with inaccurate static data, is prohibited.

(c) Prior to submitting a certification application for a Class B AIS device, the following information must be submitted in duplicate to the Commandant (CG-521), U.S. Coast Guard, 2100 2nd Street, SW., Washington, DC 20593-0001:

(1) The name of the manufacturer or grantee and the model number of the AIS device; and

(2) Copies of the test report and test data obtained from the test facility showing that the device complies with the environmental and operational requirements identified in IEC 62287-1.

(d) After reviewing the information described in paragraph (c) of this section, the U.S. Coast Guard will issue a letter stating whether the AIS device satisfies all of the requirements specified in IEC 62287-1.

(e) A certification application for an AIS device submitted to the Commission must contain a copy of the U.S. Coast Guard letter stating that the device satisfies all of the requirements specified in IEC 62287-1, a copy of the technical test data, and the instruction manual(s).

5. Amend § 80.275 by revising the heading and paragraph (a) introductory text to read as follows:

§ 80.275 Technical Requirements for Class A Automatic Identification System (AIS) equipment.

(a) Prior to submitting a certification application for a Class A AIS device, the following information must be submitted in duplicate to the Commandant (G-PSE), U.S. Coast Guard, 2100 2nd Street, SW., Washington, DC 20593-0001:

* * * * *

6. Amend § 80.371 by removing the column titled “Frequency pairs not available for assignment” in the table in paragraph (c)(1)(ii), and revising paragraphs (c)(1)(i), (c)(1)(ii) introductory text, and (c)(3) to read as follows:

§ 80.371 Public correspondence frequencies.

* * * * *

(c) Working frequencies in the marine VHF 156-162 MHz band. (1)(i) The frequency pairs listed in this paragraph are available for assignment to public coast stations for communications with ship stations and units on land.

Working Carrier Frequency Pairs in the 156-162 MHz Band ¹
Channel designator | Carrier Frequency (MHz): Ship transmit | Carrier Frequency (MHz): Coast transmit
24 | 157.200 | 161.800
84 | 157.225 | 161.825
25 ⁵ | 157.250 | 161.850
85 ² | 157.275 | 161.875
26 | 157.300 | 161.900
86 | 157.325 | 161.925
27 | 157.350 | 161.950
87 ³ | 157.375 | 161.975
28 | 157.400 | 162.000
88 ⁴ | 157.425 | 162.025
¹ For special assignment of frequencies in this band in certain areas of Washington State, the Great Lakes and the east coast of the United States pursuant to arrangements between the United States and Canada, see subpart B of this part.
² The frequency pair 157.275/161.875 MHz is available on a primary basis to ship and public coast stations. In Alaska it is also available on a secondary basis to private mobile repeater stations.
³ The frequency 161.975 MHz is available only for Automatic Identification System communications. No license authorizing a site-based VHF Public Coast Station or a Private Land Mobile Radio Station to operate on the frequency 161.975 MHz will be renewed unless the license is or has been modified to remove frequency 161.975 MHz as an authorized frequency. Licenses authorizing geographic stations to operate on frequency 161.975 MHz will be modified on March 2, 2011 to replace the frequency with either frequency pair 157.225/161.825 MHz (VPCSAs 10-15, 23-30, 33-34, 36-39, and 41-42) or frequency pair 157.275/161.875 MHz (VPCSAs 16-22, 31-32, 35, and 40), unless an application to so modify the license is granted before that date.
⁴ The frequency 162.025 MHz is available only for Automatic Identification System communications. One hundred twenty kilometers (75 miles) from the United States/Canada border, the frequency 157.425 MHz is available for intership and commercial communications. Outside the Puget Sound area and its approaches and the Great Lakes, 157.425 MHz is available for communications between commercial fishing vessels and associated aircraft while engaged in commercial fishing activities.
⁵ In VPCSAs 10-42, the working carrier frequency pair 157.250/161.850 MHz (Channel 25) is not available for assignment under part 80.

* * * * *

(ii) Service areas in the marine VHF 156-162 MHz band are VHF Public Coast Service Areas (VPCSAs). As listed in the table in this paragraph, VPCSAs are based on, and composed of one or more of, the U.S. Department of Commerce's 172 Economic Areas (EAs). See 60 FR 13114 (March 10, 1995). In addition, the Commission shall treat Guam and the Northern Mariana Islands, Puerto Rico and the United States Virgin Islands, American Samoa, and the Gulf of Mexico as EA-like areas, and has assigned them EA numbers 173-176, respectively. Maps of the EAs and VPCSAs are available for public inspection and copying at the FCC Public Reference Room, Room CY-A257, 445 12th Street, SW., Washington, DC 20554, 1-888-225-5322. In addition to the EAs listed in the table in this paragraph, each VPCSA also includes the adjacent waters under the jurisdiction of the United States. In VPCSAs 10-42, the working carrier frequency pair 157.250 MHz/161.850 MHz (Channel 25) is not available for assignment under part 80.

(3) VPCSA licensees may not operate on Channel 228B (162.0125 MHz), which is available for use in the Coast Guard's Ports and Waterways Safety System (PAWSS). In addition, VPCSA licensees may not operate on Channel AIS 1 (161.975 MHz) or Channel AIS 2 (162.025 MHz), which are designated exclusively for Automatic Identification Systems (AIS), except to receive AIS communications to the same extent, and subject to the same limitations, as other shore stations participating in AIS. See note 3 to the table in paragraph (c)(1) of this section regarding use of Channel AIS 1 by VPCSA licensees in VPCSAs 10-42.

* * * * *

7. Amend § 80.393 by adding an undesignated center heading “AIS STATIONS” immediately above § 80.393 and by revising the section to read as follows:

AIS Stations

§ 80.393 Frequencies for AIS stations.

Automatic Identification Systems (AIS) are a maritime broadcast service. The simplex channels at 161.975 MHz (AIS 1) and 162.025 MHz (AIS 2), each with a 25 kHz bandwidth, may be authorized only for AIS. In accordance with the Maritime Transportation Security Act, the United States Coast Guard regulates AIS carriage requirements for non-Federal Government ships. These requirements are codified at 33 CFR 164.46, 401.20.

8. Amend § 80.1101 by adding paragraph (c)(12)(vi) to read as follows:

§ 80.1101 Performance standards.

* * * * *

(c) * * *

(12) * * *

(vi) With respect to Class B AIS devices only, IEC 62287-1 International Standard, “Maritime navigation and radio communication equipment and systems—Class B shipborne equipment of the Automatic Identification System—part 1: Carrier—sense time division multiple access (CSTDMA) techniques,” First Edition 2006-03 (incorporated by reference at § 80.231).

* * * * *

PART 90-PRIVATE LAND MOBILE RADIO SERVICES

The authority citation for part 90 continues to read as follows:

Authority: Secs. 4(i), 11, 303(g), 303(r) and 332(c)(7) of the Communications Act of 1934, as amended, 47 U.S.C. 154(i), 161, 303(g), 303(r), 332(c)(7).

9. Amend § 90.20 by removing paragraphs (g)(3) and (g)(4), redesignating paragraph (g)(5) as (g)(3), and revising paragraphs (g) introductory text, (g)(2) and redesignated paragraphs (g)(3)(i), (g)(3)(ii), (g)(3)(iii)(B), (g)(3)(iii)(D), and (g)(3)(vi) to read as follows:

§ 90.20 Public safety pool.

* * * * *

(g) Former public correspondence working channel in the maritime VHF (156-162 MHz) band allocated for public safety use in 33 inland Economic Areas.

* * * * *

(2) In VHF Public Coast Service Areas (VPCSAs) 10-42, the duplex channel pair 157.250 MHz/161.850 MHz (VHF Maritime Channel 25) is allocated for public safety use by entities eligible for licensing under paragraph (a) of this section, and is designated primarily for the purpose of interoperability communications. See 47 CFR 80.371(c)(1)(ii) for the definitions of VPCSAs.

(i) The channel pair 157.250 MHz/161.850 MHz was formerly allocated and assigned (under § 80.371(c) (1997) of this chapter) as a public correspondence working channel in the maritime VHF 156-162 MHz band, and was also shared (under former § 90.283 (1997) of this chapter) with private land mobile stations, including grandfathered public safety licensees. Thus, there are grandfathered licensees nationwide (maritime and private land mobile radio stations, including by rule waiver) operating on this channel both inside and outside of VPCSAs 10-42.

(ii) The channel pairs 157.225 MHz/161.825 MHz and 157.275 MHz/161.875 MHz were formerly allocated and assigned under this section as public safety interoperability channels but were reallocated for assignment as VHF public coast station channels under § 80.371(c) of this chapter. Public safety operations licensed on these channels as of March 2, 2009 or licensed pursuant to an application filed prior to September 19, 2008, may remain authorized to operate on the channels on a primary basis until March 4, 2024.

(3) * * *

(i) Provide evidence of frequency coordination in accordance with § 90.175. Public safety coordinators except the Special Emergency Coordinator are certified to coordinate applications for the channel pair 157.250 MHz/161.850 MHz (i.e. , letter symbol PX under paragraph (c)(2) of this section).

(ii) Station power, as measured at the output terminals of the transmitter, must not exceed 50 Watts for base stations and 20 Watts for mobile stations, except in accordance with the provisions of paragraph (g)(3)(vi) of this section. Antenna height (HAAT) must not exceed 122 meters (400 feet) for base stations and 4.5 meters (15 feet) for mobile stations, except in accordance with paragraph (g)(3)(vi) of this section. Antenna height (HAAT) must not exceed 122 meters (400 feet) for base stations and 4.5 meters (15 feet) for mobile stations, except in accordance with paragraph (g)(3)(vi) of this section. Such base and mobile channels shall not be operated on board aircraft in flight.

(iii) * * *

(B) Protect stations described in paragraph (g)(2)(i) of this section, by frequency coordination in accordance § 90.175 of this part.

* * * * *

(D) Where the Public safety designated channel is not a Public safety designated channel in an adjacent VPCSA: Applicants shall engineer base stations such that the maximum signal strength at the boundary of the adjacent VPCSA does not exceed 5dBμV/m.

* * * * *

(vi) Applicants seeking to be licensed for stations exceeding the power/antenna height limits of the table in paragraph (g)(3)(iv) of this section must request a waiver of that paragraph and must submit with their application an interference analysis, based upon an appropriate, generally-accepted terrain-based propagation model, that shows that co-channel protected entities, described in paragraph (g)(3)(iii) of this section, would receive the same or greater interference protection than the relevant criteria outlined in paragraph (g)(3)(iii) of this section.

* * * * *

[FR Doc. E9-1536 Filed 1-28-09; 8:45 am]

BILLING CODE 6712-01-P